DEPARTMENT OF VETERANS AFFAIRS

[OMB Control No. 2900-0025]

Proposed Information Collection Activity: Proposed Collection; Comment Request

AGENCY: Office of Information and Technology, Department of Veterans Affairs.

ACTION: Notice.

SUMMARY: The Office of Information and Technology (IT), Department of Veterans Affairs (VA), is announcing an opportunity for public comment on the proposed collection of certain information by the agency. Under the Paperwork Reduction Act (PRA) of 1995, Federal agencies are required to publish notice in the Federal Register concerning each proposed collection of information, including each proposed extension of a previously approved collection, and allow 60 days for public comment in response to the notice. This notice solicits comments for information needed for an individual to provide a written consent to release his/her records or information to a third party.

DATES: Written comments and recommendations on the proposed collection of information should be received on or before July 7, 2000.

ADDRESSES: Submit written comments on the collection of information to Barbara Epps (045A4), Department of Veterans Affairs, 810 Vermont Avenue, NW., Washington, DC 20420. Please refer to “OMB Control No. 2900-0025” in any correspondence.

FOR FURTHER INFORMATION CONTACT: Barbara Epps at (202) 273-8013 or FAX (202) 273-5981.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, IT invites comments on: (1) Whether the proposed collection of information is necessary for the proper performance of IT's functions, including whether the information will have practical utility; (2) the accuracy of IT's estimate of the burden of the proposed collection of information; (3) ways to enhance the quality, utility, and clarity of the information to be collected; and (4) ways to minimize the burden of the collection of information on respondents, including through the use of automated collection techniques or the use of other forms of information technology.

Title: Request for and Consent to Release of Information From Claimant's Records, VA Form 3288.

OMB Control Number: 2900-0025.

Type of Review: Extension of a previously approved collection.

Abstract: The form is completed by veterans or beneficiaries to provide VA with a written consent to release records or information to third parties such as insurance companies, physicians and other individuals. Use of the form ensures an individual gives an informed written consent for the release of records or information about himself/herself that is consistent with the statutory requirements of the Privacy Act of 1974 and VA's confidentiality statute.

Affected Public: Individuals or households.

Estimated Annual Burden: 18,875 hours.

Estimated Average Burden Per Respondent: 7.5 minutes.

Frequency of Response: On occasion.

Estimated Number of Respondents: 151,000.

Dated: April 13, 2000.
By Direction of the Secretary.
Donald L. Neilson,
Director, Information Management Service.

[FR Doc. 00-11377 Filed 5-5-00; 8:45 am]

BILLING CODE 8320-01-P